FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012037-003.

Title: Maersk Line/CMA CGM TA3 Space Charter Agreement.

Parties: A.P. Moeller-Maersk A/S and CMA CGM S.A.

Filing Party: Wayne R. Rohde, Esq.; Cozen O'Connor; 1627 I Street NW., Suite 1100, Washington, DC 20006-4007.

Synopsis: The amendment would add Panama and Belgium to the geographic scope of the agreement, provide for the chartering of slots on a vessel string not previously covered by the agreement, revise the termination provisions of the agreement, and delete obsolete language from the agreement.

By Order of the Federal Maritime Commission.
Dated: March 23, 2012.
Karen V. Gregory,
Secretary.

[FR Doc. 2012-7453 Filed 3-27-12; 8:45 am]

BILLING CODE 6730-01-P